DEPARTMENT OF HEALTH AND HUMAN SERVICES

Centers for Disease Control and Prevention

National Center for Environmental Health/Agency for Toxic Substances and Disease Registry

Community and Tribal Subcommittee (CTS) of the Board of Scientific Counselors (BSC), Centers for Disease Control and Prevention (CDC), National Center for Environmental Health (NCEH)/Agency for Toxic Substances and Disease Registry (ATSDR): Teleconference.

In accordance with section 10(a)(2) of the Federal Advisory Committee Act (Pub. L. 92-463), the Centers for Disease Control and Prevention, NCEH/ATSDR announces the following teleconference meeting of the aforementioned subcommittee:

Time and Date: 1 p.m.-3 p.m., April 17, 2007.

Place: The teleconference will originate at NCEH/ATSDR in Atlanta, Georgia. Please see Supplementary Information for details on accessing the teleconference.

Status: Open to the public, teleconference access is limited only by the availability of telephone ports.

Purpose: Under the charge of the BSC, NCEH/ATSDR, the CTS will provide the BSC, NCEH/ATSDR with a forum for community and tribal first hand perspectives on the interactions and impacts of the NCEH/ATSDR's national and regional policies, practices and programs.

Matters to be Discussed: The meeting agenda will include a discussion on the ATSDR Environmental Justice Web site, a discussion on the ongoing NCEH/ATSDR activities related to health disparities and environmental justice, and a discussion on agenda items for the May 16, 2007 CTS Meeting.

Items are subject to change as priorities dictate.

Supplementary Information: This teleconference meeting is scheduled to begin at 1 p.m. Eastern Daylight Saving Time. To participate, please dial 1-877-315-6535 and enter conference code 383520. You will then be automatically connected to the call. The public comment period is scheduled from 2 p.m.-2:10 p.m. Eastern Daylight Saving Time.

Contact Person for More Information: Sandra Malcom, Committee Management Specialist, NCEH/ATSDR, 1600 Clifton Road, Mail Stop E-28, Atlanta, GA 30303; telephone 404-498-0622, fax 404-498-0059; E-mail: SMalcom@cdc.gov.

The Director, Management Analysis and Services Office, has been delegated the authority to sign Federal Register notices pertaining to announcements of meetings and other committee management activities, for both CDC and the Agency for Toxic Substances and Disease Registry.

Elaine L. Baker,
Acting Director, Management Analysis and Services Office, Centers for Disease Control and Prevention.

[FR Doc. E7-5341 Filed 3-22-07; 8:45 am]

BILLING CODE 4163-18-P